DEPARTMENT OF COMMERCE

International Trade Administration

[A-533-808]

Stainless Steel Wire Rod From India; Final Results of Antidumping Duty Administrative Review

AGENCY: Import Administration, International Trade Administration, Department of Commerce.

ACTION: Notice of final results of antidumping duty administrative review of stainless steel wire rod from India.

SUMMARY: On January 11, 2000, the Department of Commerce (“the Department”) published in the Federal Register the preliminary results and partial rescission of its administrative review of the antidumping duty order on stainless steel wire rod from India (65 FR 1597). This review covers Viraj Group Ltd., (“Viraj”), a manufacturer and exporter of subject merchandise to the United States. The period of review is December 1, 1997 through November 30, 1998.

Based on our analysis of the comments received, we have changed our results from the preliminary results of review. The final weighted-average dumping margin for the reviewed firm is listed below in the section entitled “Final Results of the Review.”

EFFECTIVE DATE: May 17, 2000.

FOR FURTHER INFORMATION CONTACT: Stephen Bailey, Laurel LaCivita or Rick Johnson, Import Administration, International Trade Administration, U.S. Department of Commerce, 14th and Constitution Avenue, N.W., Washington, D.C. 20230; telephone: (202) 482-0414, (202) 482-4243 or (202) 482-3818, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department's regulations are to 19 CFR Part 351 (1998).

Background

On January 11, 2000, the Department published in the Federal Register (65 FR 1597) the preliminary results and partial rescission of its administrative review of the antidumping duty order on stainless steel wire rod from India (“Preliminary Results”). As we stated in that notice, this review was rescinded with respect to Mukand, Ltd. and Panchmahal Steel Ltd., pursuant to timely requests for withdrawal of their review requests. We invited parties to comment on our preliminary results of review.

We have now completed the administrative review in accordance with section 751 of the Act.

Scope of the Review

The product covered by this review is stainless steel wire rod from India. This merchandise is classifiable under Harmonized Tariff Schedule (“HTS”) subheadings 7221.00.0005, 7221.00.0015, 7221.00.0020, 7221.00.0030, 7221.00.0040, 7221.00.045, 7221.00.0060, 7221.00.0075, and 7221.00.0080. Although the HTS subheadings are provided for convenience and for U.S. Customs purposes, the written description of the scope of this finding remains dispositive.

Analysis of Comments Received

All issues raised in the case and rebuttal briefs by parties to this administrative review are addressed in the “Issues and Decision Memorandum” (“Decision Memorandum”) from Joseph A. Spetrini, Deputy Assistant Secretary, Import Administration, to Troy H. Cribb, Acting Assistant Secretary for Import Administration, dated May, 10, 2000, which is hereby adopted in this notice. A list of the issues which parties have raised and to which we have responded, all of which are in the Decision Memorandum, is attached to this notice as an Appendix. Parties can find a complete discussion of all issues raised in this review and the corresponding recommendations in this public memorandum which is on file in the Central Records Unit, Room B-099 of the main Department building. In addition, a complete version of the Decision Memorandum can be accessed directly on the Web at www.ita.doc.gov/import—admin/records/frn. The paper copy and electronic version of the Decision Memorandum are identical in content.

Changes Since the Preliminary Results

Based on our analysis of comments received, we have changed our results from the preliminary results of review. For the final results of review, Viraj's duty drawback claims have not been allowed.

Final Results of Review

We determine that the following percentage margin exists for the period December 1, 1997, through November 30, 1998:

Manufacturer/exporter/reseller | Margin (percent)
Viraj Impoexpo, Ltd | 11.88

The Department shall determine, and Customs shall assess, antidumping duties on all appropriate entries. The Department will issue appraisement instructions directly to the Customs Service. In accordance with 19 CFR 351.212(b), we have calculated exporter/importer-specific assessment rates. We divided the total dumping margins for the reviewed sales by the entered quantity of those reviewed sales for Viraj. We will direct Customs to assess the resulting unit margins against the entered quantity for the subject merchandise on each of Viraj's entries during the review period.

Cash Deposit Requirements

The following deposit requirements will be effective upon publication of this notice of final results of administrative review for all shipments of stainless steel wire rod from India entered, or withdrawn from warehouse, for consumption on or after the date of publication, as provided by section 751(a)(1) of the Act: (1) The cash deposit rate for Viraj will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be the “all others” rate, which is 48.80 percent.

The cash deposit rate has been determined on the basis of the selling price to the first unaffiliated U.S. customer. These deposit requirements shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 771(i) of the Act.

Dated: May 10, 2000.
Troy H. Cribb,
Acting Assistant Secretary for Import Administration.

Appendix 1—Issues in Decision Memorandum

Comments and Responses

1. Valuation of Raw Material Inputs

2. Modvat Tax

3. Duty Drawback

4. Date of Currency Conversion

5. Interest Expense

6. Double-Counting of Profit

7. Clerical Error

[FR Doc. 00-12432 Filed 5-16-00; 8:45 am]

BILLING CODE 3510-DS-P